DEPARTMENT OF COMMERCE

National Oceanic and Atmospheric Administration

[I.D. 081403A]

Marine Mammals; File No. 782-1708

AGENCY: National Marine Fisheries Service (NMFS), National Oceanic and Atmospheric Administration (NOAA), Commerce.

ACTION: Notice; issuance of permit amendment.

SUMMARY: Notice is hereby given that NMFS National Marine Mammal Laboratory, 7600 Sand Point Way NE, Bldg. 4, Seattle, WA 98115-0070 [Principal Investigator: Dr. Thomas Gelatt] has been issued an amendment to scientific research Permit No. 782-1708.

ADDRESSES: The amendment and related documents are available for review upon written request or by appointment in the following office(s):

Permits, Conservation and Education Division, Office of Protected Resources, NMFS, 1315 East-West Highway, Room 13705, Silver Spring, MD 20910; phone (301)713-2289; fax (301)427-2521;

Alaska Region, NMFS, P.O. Box 21668, Juneau, AK 99802-1668; phone (907)586-7221; fax (907)586-7249; and

Southwest Region, NMFS, 501 West Ocean Blvd., Suite 4200, Long Beach, CA 90802-4213; phone (562)980-4001; fax (562)980-4018.

FOR FURTHER INFORMATION CONTACT: Tammy Adams or Amy Sloan, (301)713-2289.

SUPPLEMENTARY INFORMATION: On August 31, 2007, notice was published in the Federal Register (72 FR 50330) that an amendment to Permit No. 782-1708 had been requested by the above-named applicant. The requested amendment has been granted under the authority of the Marine Mammal Protection Act of 1972, as amended (16 U.S.C. 1361 et seq.), the regulations governing the taking and importing of marine mammals (50 CFR part 216), and the Fur Seal Act of 1966, as amended (16 U.S.C. 1151 et seq.).

The permit now authorizes researchers to perform additional sampling procedures on northern fur seals (Callorhinus ursinus) already authorized for capture. The amendment does not result in an increase in the number of northern fur seals captured and sampled, but adds the following procedures related to a vital rate study or identification of location of prey consumption events: flipper tagging all animals captured; extraction of a single tooth, under anesthesia, from all non-pups captured; and use of a stomach temperature telemeter/recorder on non-pups captured.

In compliance with the National Environmental Policy Act of 1969 (42 U.S.C. 4321 et seq.), it has been determined that the activities proposed are consistent with the Preferred Alternative in the Final Programmatic Environmental Impact Statement for Steller Sea Lion and Northern Fur Seal Research (NMFS 2007), and that issuance of the permit amendment would not have a significant adverse impact on the human environment.

Dated: October 3, 2007.
P. Michael Payne,
Chief, Permits, Conservation and Education Division, Office of Protected Resources, National Marine Fisheries Service.

[FR Doc. E7-19926 Filed 10-9-07; 8:45 am]

BILLING CODE 3510-22-S